NATIONAL SCIENCE FOUNDATION

Advisory Committee for Geosciences; Notice of Meeting

In accordance with the Federal Advisory Committee Act (Pub. L. 92-463, as amended), the National Science Foundation announces the following meeting:

Name: Advisory Committee for Geosciences (1755).

Dates: April 18-April 19, 2012; 8:30 a.m.-2 p.m.

Place: Stafford I, Room 1235, National Science Foundation, 4201 Wilson Blvd. Arlington, Virginia 22230.

Type of Meeting: Open.

Contact Person: Melissa Lane, National Science Foundation, Suite 705, 4201 Wilson Blvd., Arlington, Virginia 22230. Phone 703-292-8500.

Minutes: May be obtained from the contact person listed above.

Purpose of Meeting: To provide advice, recommendations, and oversight concerning support for geosciences.

Reason for Late Notice: Scheduling complications and last minute changes to the agenda.

Agenda

April 18, 2012 8:30 am-5:30pm

• Update on Directorate Activities and Plans

• Updates on FY 2013 Budget Requests

• Meeting with the Director and Deputy Director

• Division Subcommittee Meetings

April 19, 2012 8:30 am-2:00pm

• Division Subcommittee Reports

• Updates on the U.S. Global Change Research Program, Education Program Planning, and International Activities

• Action Items/Planning for Fall Meeting

Dated: April 10, 2012.
Susanne Bolton,
Committee Management Officer.

[FR Doc. 2012-8899 Filed 4-12-12; 8:45 am]

BILLING CODE 7555-01-P